FEDERAL COMMUNICATIONS COMMISSION

47 CFR Part 73

[DA 03-2187, MB Docket No. 02-45, RM-10373]

Digital Television Broadcast Service; Cadillac and Manistee, MI

AGENCY: Federal Communications Commission.

ACTION: Final rule.

SUMMARY: The Commission, at the request of Central Michigan University, substitutes DTV channel *17 for DTV channel *58 at Cadillac, and substitutes DTV channel *58 for DTV channel *17 at Manistee. See 67 FR 10871, March 11, 2002. DTV channel *17 can be allotted to Cadillac in compliance with the principle community coverage requirements of Section 73.625(a) at reference coordinates 44-44-53 N. and 85-04-08 W. with a power of 500, HAAT of 399 meters and with a DTV service population of 327 thousand. DTV channel *58 can be allotted to Manistee in compliance with the principle community coverage requirements of Section 73.625(a) at reference coordinates 44-03-57 N. and 86-19-58 W. with a power of 200, HAAT of 104 meters and with a DTV service population of 78 thousand. Since the communities of Cadillac and Manistee are located within 400 kilometers of the U.S.-Canadian border, concurrence from the Canadian government has been obtained for these allotments. With this action, this proceeding is terminated.

DATES: Effective August 21, 2003.

FOR FURTHER INFORMATION CONTACT: Pam Blumenthal, Media Bureau, (202) 418-1600.

SUPPLEMENTARY INFORMATION: This is a synopsis of the Commission's Report and Order, MB Docket No. 02-45, adopted July 2, 2003, and released July 7, 2003. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Michigan, is amended by removing DTV channel *58 and adding DTV channel *17 at Cadillac.

3. Section 73.622(b), the Table of Digital Television Allotments under Michigan, is amended by removing DTV channel *17 and adding DTV channel *58 at Manistee.

Barbara A. Kreisman,
Chief, Video Division, Media Bureau.

[FR Doc. 03-17575 Filed 7-10-03; 8:45 am]

BILLING CODE 6712-01-P